EXPORT-IMPORT BANK

Sunshine Act Meetings; Notice of Open Meeting of the Sub-Saharan Africa Advisory Committee of the Export-Import Bank of the United States (EXIM)

TIME AND DATE: Wednesday, June 21st, 2023 from 10:00 a.m.-12:00 p.m. EDT.

PLACE: Hybrid meeting—EXIM Bank Headquarters (811 Vermont Ave. NW, Washington, DC) and Virtual. The meeting will be held in person for committee members, EXIM's Board of Directors and support staff, and virtually for all other participants.

Registration and Public Comment: Virtual Public Participation: The meeting will be open to public participation virtually and time will be allotted for questions or comments submitted online. Members of the public may also file written statements before or after the meeting to advisory@exim.gov.

Interested parties may register for the meeting at: https://events.teams.microsoft.com/event/a106dc52-203d-495d-9547-4da38bfa9941@b953013c-c791-4d32-996f-518390854527.

MATTERS TO BE CONSIDERED: Discussion of EXIM policies and programs designed to support the expansion of financing support for U.S. manufactured goods and services in Sub-Saharan Africa.

CONTACT PERSON FOR MORE INFORMATION: For further information, contact India Walker, External Engagement Specialist, at 202-480-0062 or india.walker@exim.gov.

Joyce B. Stone,
Assistant Corporate Secretary.

[FR Doc. 2023-12322 Filed 6-6-23; 11:15 am]

BILLING CODE 6690-01-P